COMMISSION ON CIVIL RIGHTS

Agenda and Notice of Public Meeting of the Illinois Advisory Committee

Notice is hereby given, pursuant to the provisions of the rules and regulations of the U.S. Commission on Civil Rights (Commission), and the Federal Advisory Committee Act (FACA), that a meeting of the Illinois Advisory Committee to the Commission will convene by conference call at 9:30 a.m. CST and adjourn at 11:00 a.m. CST on July 30, 2013. The purpose of the meeting is to allow Committee members the opportunity to discuss and vote on two project proposals: Civil Rights Issues Facing Immigrants in Illinois and Monitoring Food Deserts in Chicago: An Update. The Committee will also discuss the preparatory subcommittee work involving its project on religious discrimination in Illinois prisons. Finally, the meeting will include an orientation to new members.

This meeting is available to the public through the following toll-free call-in number: 888-417-8465, conference ID: 6013056. Any interested member of the public may call this number and listen to the meeting. Callers can expect to incur charges for calls they initiate over wireless lines, and the Commission will not refund any incurred charges. Callers will incur no charge for calls they initiate over land-line connections to the toll-free telephone number. Persons with hearing impairments may also follow the proceedings by first calling the Federal Relay Service at 1-800-977-8339 and providing the Service with the conference call number and conference ID number.

Members of the public are entitled to submit written comments. The comments must be received in the regional office by August 14, 2013. The address is US Commission on Civil Rights, Midwestern Regional Office, 55 W. Monroe St., Suite 410, Chicago, IL 60603. Comments may be emailed to callen@usccr.gov. Records generated by this meeting may be inspected and reproduced at the Midwestern Regional Office, as they become available, both before and after the meeting, and they will be uploaded onto the database at www.facadatabase.gov. Persons interested in the work of this advisory committee are advised to go to the Commission's Web site, www.usccr.gov, or to contact the Midwestern Regional Office at the above email or street address.

The meeting will be conducted pursuant to the provisions of the rules and regulations of the Commission and FACA.

Dated in Chicago, IL, July 12, 2013.
David Mussatt,
Acting Chief, Regional Programs Coordination Unit.

[FR Doc. 2013-17172 Filed 7-17-13; 8:45 am]

BILLING CODE P